DEPARTMENT OF AGRICULTURE

The U.S. Codex Office

Codex Alimentarius Commission: Meeting of the Codex Committee on Food Additives

AGENCY: U.S. Codex Office, USDA.

ACTION: Notice of public meeting and request for comments.

SUMMARY: The U.S. Codex Office is sponsoring a public meeting on February 18, 2025, from 9 a.m. to 12 p.m. eastern time (ET). The objective of the public meeting is to provide information and receive public comments on agenda items and draft U.S. positions to be discussed at the 55th Session of the Codex Committee on Food Additives (CCFA) of the Codex Alimentarius Commission, which is scheduled to be held in Seoul, Republic of Korea, from March 24-28, 2025. The U.S. Manager for Codex Alimentarius and the Under Secretary for Trade and Foreign Agricultural Affairs recognize the importance of providing interested parties the opportunity to obtain background information on the 55th Session of the CCFA and to address items on the agenda.

DATES: The public meeting is scheduled for February 18, 2025, from 9 a.m. to 12 p.m. ET.

ADDRESSES: The public meeting will take place in a hybrid format. The on-site location is Meeting Room 1A-001 and 1A-002 at the U.S. Food and Drug Administration, Harvey Wiley Federal Building, 5001 Campus Drive, College Park, MD 20740-3835. Documents related to the 55th Session of the CCFA will be accessible via the internet at the following address: https://www.fao.org/fao-who-codexalimentarius//detail/it/?meeting=CCFA&session=55.

Dr. Daniel Folmer, U.S. Delegate to the 55th Session of the CCFA, invites interested U.S. parties to submit their comments electronically to the following email address: Daniel.Folmer@fda.hhs.gov.

Registration: In-person attendees may register to attend the public meeting at the following email address: ccfa@cfsan.fda.gov. Virtual attendees may register to attend the public meeting at the following link: https://fda.zoomgov.com/meeting/register/vJItcOmgpj4iHgEoL7A3kCqQesR5F9ClcMQ. Both in-person and virtual attendees should register by February 14, 2025. After registering, you will receive a confirmation email containing information about joining the meeting. For further information about the public meeting, contact Dr. LaShonda Cureton, U.S. Alternate Delegate to the 55th Session of the CCFA, by phone at: +1 (240) 402-1351 or by email at: Lashonda.Cureton@fda.hhs.gov.

For further information about the 55th session of the CCFA, contact U.S. Delegate, Dr. Daniel Folmer, by phone at: +1 (240) 402-1274 or by email at: Daniel.Folmer@fda.hhs.gov, or U.S. Alternate Delegate, Dr. LaShonda Cureton, by phone at: +1 (240) 402-1351 or by email at: Lashonda.Cureton@fda.hhs.gov. For additional information regarding the public meeting, contact the U.S. Codex Office by email at: uscodex@usda.gov.

SUPPLEMENTARY INFORMATION:

Background

The Codex Alimentarius Commission was established in 1963 by two United Nations organizations, the Food and Agriculture Organization (FAO) and the World Health Organization (WHO). Through the adoption of food standards, codes of practice, and other guidelines developed by its committees, and by promoting their adoption and implementation by governments, Codex seeks to protect the health of consumers and ensure fair practices in the food trade.

The Terms of Reference of the Codex Committee on Food Additives (CCFA) are:

(a) to establish or endorse permitted maximum levels for individual food additives;

(b) to prepare priority lists of food additives for risk assessment by the Joint FAO/WHO Expert Committee on Food Additives;

(c) to assign functional classes to individual food additives;

(d) to recommend specifications of identity and purity for food additives for adoption by the Commission;

(e) to consider methods of analysis for the determination of additives in food; and

(f) to consider and elaborate standards or codes for related subjects such as the labelling of food additives when sold as such.

The CCFA is hosted by China. The United States attends the CCFA as a member country of the Codex Alimentarius. The 55th session of the CCFA will be co-hosted by the Republic of Korea.

Issues To Be Discussed at the Public Meeting

The following items from the Provisional Agenda for the 55th Session of the CCFA will be discussed during the public meeting:

• Matters Referred by the Codex Alimentarius Commission and other subsidiary bodies;

• Matters of Interest arising from FAO/WHO and from the 99th Meeting of the Joint FAO/WHO Expert Committee on Food Additives (JECFA);

• Proposed draft specifications for identity and purity of food additives arising from the 99th JECFA meeting;

• Endorsement and/or revision of maximum levels for food additives and processing aids in Codex standards;

• Alignment of the food additive provisions of commodity standards: Report of the Electronic Working Group (EWG) on Alignment;

• General Standard for Food Additives (GFSA): Report of the EWG on the GSFA;

• General Standard for Food Additives (GFSA): Proposals for new and/or revision of food additive provisions (replies to circular letter (CL) 2024/58-FA);

• Proposed draft revision to the Class Names and the International Numbering System for Food Additives (CXG 36-1989);

• Proposals for additions and changes to the Priority List of Substances proposed for evaluation by JECFA (replies to CL 2024/59-FA);

• Standard for baker's yeast (Step 4);

• Discussion paper on the working practices and the engagement plan to avoid divergence between the GSFA, commodity standards and other related Codex texts;

• Other business and future work.

Public Meeting

At the public meeting on February 18, 2025, the draft U.S. positions on the agenda items will be described and discussed, and attendees will have the opportunity to pose questions and offer comments. Written comments may be offered at the meeting or sent to Dr. Daniel Folmer, U.S. Delegate to the 55th Session of the CCFA, at Daniel.Folmer@fda.hhs.gov. Written comments should state that they relate to activities of the 55th Session of the CCFA.

Additional Public Notification

Public awareness of all segments of rulemaking and policy development is important. Consequently, the U.S. Codex Office will announce this Federal Register publication on-line through the USDA Codex web page located at: https://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on January 13, 2025.
Julie A. Chao,
Deputy U.S. Manager for Codex Alimentarius.

[FR Doc. 2025-01036 Filed 1-15-25; 8:45 am]

BILLING CODE 3420-3F-P